NUCLEAR REGULATORY COMMISSION

[Docket No. IA-14-025-EA; ASLBP No. 14-932-02-EA-BD01]

James Chaisson; Notice of Atomic Safety And Licensing Board Reconstitution

Pursuant to 10 CFR 2.313(c) and 2.321(b), the Atomic Safety and Licensing Board in the above-captioned James Chaisson enforcement action proceeding is hereby reconstituted as follows: Administrative Judge Michael M. Gibson (who already is serving as a Licensing Board member in this case) is appointed to serve as Chairman; and Administrative Judge G. Paul Bollwerk, III is appointed to serve in place of Administrative Judge Alex S. Karlin.

All correspondence, documents, and other materials shall continue to be filed in accordance with the NRC E-Filing rule. See 10 CFR 2.302 et seq.

Issued at Rockville, Maryland, this 16th day of January 2015.
E. Roy Hawkens,
Chief Administrative Judge, Atomic Safety and Licensing Board Panel.

[FR Doc. 2015-01181 Filed 1-22-15; 8:45 am]

BILLING CODE 7590-01-P